DEPARTMENT OF HOMELAND SECURITY

Environmental Planning Program

AGENCY: Department of Homeland Security.

ACTION: Reopening of comment period for Draft Environmental Directive.

SUMMARY: The Department of Homeland Security (DHS) is issuing this notice to advise the public that DHS is reopening the comment period for the draft directive containing policy and procedures for implementing the National Environmental Policy Act of 1969 (NEPA), as amended, Executive Order 11514, as amended, Executive Order 12114, and Council on Environmental Quality (CEQ) regulations for implementing the procedural provisions of NEPA (40 CFR parts 1500-1508).

DATES: Comments and related material must be received by August 16, 2004.

ADDRESSES: Please submit your comments by only one of the following means:

(1) By mail to: Environmental Planning, Office of Safety and Environmental Programs, Management Directorate, Department of Homeland Security, Washington, DC 20528.

(2) By hand delivery to: Environmental Planning, Office of Safety and Environmental Programs, Management Directorate, Department of Homeland Security, Anacostia Naval Annex, Building 410, 245 Murray Lane, SW., Washington, DC 20528.

(3) By Fax to: 202-772-9749.

(4) By e-mail to: ADMIN-S&E@hq.dhs.gov.

In choosing among these means, please give due regard to difficulties and delays associated with delivery of mail through the U.S. Postal Service.

FOR FURTHER INFORMATION CONTACT: (1) By telephone: David Reese, Office of Safety and Environmental Programs, Department of Homeland Security, 202-692-4224.

(2) By internet: A complete copy of the June 14, 2004 Federal Register notice, all comments received before the close of the comment period, and a summary and details of the support for the proposed categorical exclusions can be accessed at the following URL: http://www.dhs.gov/dhspublic/interapp/editorial/editorial_0468.xml.

SUPPLEMENTARY INFORMATION:

Request for Comments

The Department of Homeland Security (DHS) encourages interested persons to submit written data, views, or comments. Persons submitting comments should please include their name, address, and other appropriate contact information. You may submit your comments and material by one of the means listed under ADDRESSES. If you submit them by mail or hand delivery, submit them in an unbound format, no larger than 8½ x 11 inches, suitable for copying and electronic filing. If you submit them by mail and would like to know that they were received, please enclose a stamped, self-addressed postcard or envelope. DHS will consider all comments received during the comment period.

On June 14, 2004, DHS issued a notice in the Federal Register seeking public comment on its draft directive that would implement procedures for complying with the National Environmental Policy Act (NEPA). The comment period expired on July 14, 2004. DHS received several requests to reopen the public comment period and to make available to commenters additional information relating to the directive.

Additional material supporting the draft Categorical Exclusions in the DHS directive is now available for comment. This material can be reviewed on the internet at the following URL: http://www.dhs.gov/dhspublic/interapp/editorial/editorial_0468.xml.

In order to give the public the opportunity to review and comment on this additional information, DHS has decided to reopen the public comment period for another thirty days, until August 16, 2004.

Janet Hale,
Under Secretary for Management.

[FR Doc. 04-16354 Filed 7-15-04; 8:45 am]

BILLING CODE 4410-10-P